DEPARTMENT OF COMMERCE

International Trade Administration

[A-570-866]

Notice of Rescission of Antidumping Duty Administrative Review: Certain Folding Gift Boxes from the People's Republic of China

AGENCY: Import Administration, International Trade Administration, Department of Commerce.

ACTION: Notice of Rescission of Antidumping Duty Administrative Review.

SUMMARY: On February 24, 2004, the Department of Commerce published in the Federal Register a notice announcing the initiation of an administrative review of the antidumping duty order on certain folding gift boxes from the People's Republic of China for one producer/exporter of certain folding gift boxes from the People's Republic of China, Red Point Paper Products Co., Ltd., covering the period of review January 1, 2003, through December 31, 2003. On April 2, 2004, the Department of Commerce received a request for withdrawal of this review from Red Point Paper Products Co., Ltd., the respondent which requested this review. In accordance with 19 CFR 351.213(d)(1), the Department of Commerce is now rescinding its initiation of this review because the producer/exporter has timely withdrawn its request for review and no other interested parties have requested a review.

EFFECTIVE DATE: April 19, 2004.

FOR FURTHER INFORMATION CONTACT: Yang Jin Chun or Thomas Schauer, Group 1, Office 3, Import Administration, International Trade Administration, U.S. Department of Commerce, 14th Street and Constitution Avenue, N.W., Washington, D.C. 20230; telephone: (202) 482-5760, and (202) 482-0410, respectively.

SUPPLEMENTARY INFORMATION: On January 2, 2004, the Department of Commerce (the Department) published in the Federal Register a notice of opportunity to request an administrative review of the antidumping duty order on certain folding gift boxes (gift boxes) from the People's Republic of China (PRC). See Notice of Opportunity to Request Administrative Review of Antidumping or Countervailing Duty Order, Finding, or Suspended Investigation, 69 FR 50. On January 26, 2004, Red Point Paper Products Co., Ltd. (Red Point), a producer/exporter of gift boxes from the PRC, requested that the Department conduct an administrative review of the antidumping duty order on gift boxes from the PRC produced/exported by Red Point for the period of review January 1, 2003, through December 31, 2003. On February 3, 2004, Red Point re-submitted its January 26, 2004, request for administrative review to correct a typographical error.

On February 5, 2004, the Department issued a review questionnaire to Red Point. On February 24, 2004, the Department initiated an administrative review of the antidumping duty order on gift boxes from the PRC for Red Point. See Notice of Initiation of Antidumping and Countervailing Duty Administrative Review, 69 FR 8379. On April 2, 2004, Red Point withdrew its request for a review.

If a party that requested a review withdraws the request within 90 days of the date of publication of notice of initiation of the requested review, the Secretary will rescind the review pursuant to 19 CFR 351.213(d)(1)(2003). In this case, Red Point has withdrawn its request for a review within 90 days from the date of initiation. No other interested party requested a review and we have received no comments regarding Red Point's withdrawal of its request for a review. Therefore, we are rescinding the initiation of this review of the antidumping duty order on gift boxes from the PRC.

We are issuing and publishing this notice in accordance with section 751(a)(1) of the Tariff Act of 1930, as amended, and 19 CFR 351.213(d)(1)(2003).

Dated: April 13, 2004.
Jeffrey May,
Deputy Assistant Secretary for Import Administration.

[FR Doc. 04-8799 Filed 4-16-04; 8:45 am]

BILLING CODE 3510-DS-S